DEPARTMENT OF ENERGY

Federal Energy Regulatory Commission

[Docket No. RP01-180-000]

San Diego Gas & Electric Company; Notice of Filing

December 8, 2000.

Take notice that on December 7, 2000, San Diego Gas & Electric Company (SDG&E) filed a Request For Emergency Relief pursuant to Rule 207(a)(2) and (5). The filing requests that the Commission issue an order: (1) that price caps for short-term releases of capacity for service to the California border and to points of interconnection between interstate pipelines and California local distribution companies, be re-imposed effective immediately and kept in effect until March 31, 2001; and (2) that sellers be required to state separately the transportation and commodity components of the bundled rate for bundled sales at these points so that the cap can be enforced on these transactions. Alternatively, the cap could be enforced on such bundled sales through a mechanism which caps bundled sales at these points at 150% of the sum of a reported average commodity sales price plus the as-billed rate for interstate transportation.

Any person desiring to be heard or to protest said filing should file a motion to intervene or a protest with the Federal Energy Regulatory Commission, 888 First Street, NE., Washington, DC 20426, in accordance with sections 385.214 or 385.211 of the Commission's Rules and Regulations. All such motions or protests must be filed on or before December 13, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-31886 Filed 12-13-00; 8:45 am]

BILLING CODE 6717-01-M